DEPARTMENT OF AGRICULTURE

Forest Service

Information Collection; Request for Comment; Youth Conservation Corps

AGENCY: Forest Service, USDA.

ACTION: Notice.

SUMMARY: In accordance with the Paperwork Reduction Act of 1995, the Forest Service is seeking comments from all interested individuals and organizations on the extension of a currently approved information collection, Youth Conservation Corps. The collected information will help the Forest Service evaluate the employment eligibility of youth 15-18 years old through the Youth Conservation Corps Program. Under this Program, the Forest Service cooperates with other Federal agencies to provide seasonal employment for youth.

DATES: Comments must be received in writing on or before September 12, 2006 to be assured of consideration. Comments received after that date will be considered to the extent practicable.

ADDRESSES: Comments concerning this notice should be addressed to United States Department of Agriculture, Forest Service, Director, Youth Conservation Corps—Senior, Youth, and Volunteer Programs, P.O. Box 96090 (Mail Stop 1136), Washington DC 20090-6090.

Comments also may be submitted via facsimile to (703) 605-5115 or by e-mail to: syvp/wo@fs.fed.us.

The public may inspect comments received at the Office of the Director, Senior, Youth and Volunteer Programs, Forest Service, USDA, Room 1010, 1621 North Kent Street, Arlington, VA 22209, during normal business hours. Visitors are encouraged to call ahead to (703) 605-4854 to facilitate entry to the building.

FOR FURTHER INFORMATION CONTACT: Ransom Hughes, Youth Conservation Corps, Senior, Youth and Volunteer Program at (703) 605-4854. Individuals who use TDD may call the Federal Relay Service (FRS) at 1-800-877-8339, 24 hours a day, every day of the year, including holidays.

SUPPLEMENTARY INFORMATION: Title: Youth Conservation Corps (YCC) Application.

OMB Number: 0596-0084.

Expiration Date of Approval: December 31, 2006.

Type of Request: Extension of a currently approved collection.

Abstract: Under the Youth Conservation Corps Act of August 13, 1970, as amended (U.S. 18701-1706), the Forest Service, U. S. Department of Agriculture and the Fish and Wildlife Service, National Park Service and Bureau of Land Management, U.S. Department of the Interior cooperate to provide seasonal employment for eligible youth 15 to 18 years old.

These youth, who seek training and employment with the Forest Service through the Youth Conservation Corps, must complete the following forms: FS 1800-18, Youth Conservation Corps Application, and FS-1800-3, Youth Conservation Corps Medical History. The applicant's parents or guardian must sign both forms.

Employees of the Forest Service (U.S. Department of Agriculture) and the Fish and Wildlife Service, National Park Service, and Bureau of Land Management (U.S. Department of the Interior) will evaluate the data and determine the eligibility of each youth for employment with the Youth Conservation Corps. Data gathered in this information collection are not available from other sources.

The Youth Conservation Corps stresses three important objectives:

• Accomplish needed conservation work on public lands;

• Provide gainful employment for 15 to 18 year old male and females from all social, economic, ethnic, and racial background; and

• Foster, on the part of the 15 to 18 year old youth, an understanding and appreciation of the Nation's natural resources and heritage.

FS-1800-18, Youth Conservation Corps (YCC) Application: Applicants are asked to answer questions that include their name, social security number, date of birth, mailing address, and telephone number.

FS-1800-3, Youth Conservation Corps Medical History: Applicants are asked to answer questions regarding their personal health. The purpose of FS-1800-3 is to certify the youth's physical fitness to work in the seasonal employment program.

Estimate of Annual Burden: 6 minutes (FS-1800-18); 14 minutes (FS-1800-3).

Type of Respondents: Youth between the ages of 15 and 18 years old seeking seasonal employment with the Forest Service through the YCC program.

Estimated Annual Number of Respondents: 18,000.

Estimated Annual Number of Responses Per Respondent: 2.

Estimated Total Annual Burden on Respondents: 6,000.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 6, 2006.
Hand Kashdan,
Deputy Chief, OPS.

[FR Doc. E6-11103 Filed 7-13-06; 8:45 am]

BILLING CODE 3410-11-P